DEPARTMENT OF HEALTH AND HUMAN SERVICES

Indian Health Service

Indian Women's Health Demonstration Program for American Indians and Alaska Natives

AGENCY: Indian Health Service (DHHS), HHS.

ACTION: Notice of availability of funds for competitive grants for Indian Women's Health Demonstration Program for American Indians and Alaska Natives (AI/AN).

SUMMARY: The Indian Health Service (IHS) announces that approximately $700,000 is available for the support of competitive grants to Tribal, Urban and nonprofit Indian organizations for approximately seven demonstration projects under the Indian Women's Health Demonstration Program. These funds have been established under the authority of section 301(a) of the Public Health Service (PHS) Act, as amended. There will only be one funding cycle during Fiscal Year (FY) 2003 (see fund availability and period of support). This program is described in section 39.933 of the Catalog of Federal Domestic Assistance. Executive Order 12372, which requires intergovernmental review, is not applicable to this program.

The Department's Office of Public Health and Science (OPHS) is committed to achieving the health promotion and disease prevention objectives of Healthy People 2010, a PHS-led activity for setting priority areas. This program announcement is related to the priority area designed as Education and Community-Based Programs. Potential applicants may obtain a printed copy of Healthy People 2010, (Summary Report No. 017-001-00549-5) or CD-ROM, Stock No. 017-001-00549-5, through the Superintendent of Documents, Government Printing Office, PO Box 371954, Pittsburgh, PA 15250-7945, (202) 512-1800. You may also access this information at the following Web site: www.health.gov/healthpeople/publication.

Smoke Free Workplace: The PHS strongly encourages all grant recipients to provide a smoke-free workplace and promote the non-use of all tobacco products. This is consistent with the PHS mission to protect and advance the physical and mental health of the American people.

Due Date: An original and two copies of the completed grant application must be submitted with all required documentation, to the Grants Management Branch, Division of Acquisition and Grants Management, 801 Thompson Avenue, Suite 120, Rockville, MD 20852, by close of business December 6, 2002. Close of business is considered to be 5 p.m. Eastern Daylight Savings Time.

Applications shall be considered as meeting the due date if they are either: (1) Received on or before the deadline, with hand-carried applications received by close of business; or (2) postmarked on or before the due date. A legibly dated receipt from a commercial carrier or the U.S. Postal Service will be accepted as proof of timely mailing. Private metered postmarks will not be accepted as proof of timely mailing. Applications received after the due date will be returned to the applicant and will not be considered for funding.

Additional Dates:

(a) Objective Review Date: December 16-17, 2002.

(b) Applicant Notification (approved; recommended for approval, but unfunded; or disapproved): January 3, 2003.

(c) Anticipated Start of Grant Cycle: January 13, 2003.

Contacts for Assistance: For program information, contact Ms. Celissa Stephens, Senior Nurse Consultant for Hospital and Clinic Nursing, Office of Public Health, IHS, 801 Thompson Avenue, Suite 300, Rockville, MD 20852, (301) 443-1840. For grants information, contact Ms. Martha Redhouse, Grants Management Branch, Division of Acquisitions and Grants Management, IHS, 801 Thompson Avenue, Suite 120, Rockville, MD 20852, (301) 443-5204. (The telephone numbers are not toll-free numbers.)

SUPPLEMENTARY INFORMATION: This announcement provides information on the general program goal, eligibility and documentation requirements, programmatic activities, funding availability, period of support, and application procedures.

General Program Goal: The goal of this program is to establish and/or improve AI/AN women's health services. Funded programs will be community-based and culturally appropriate with measurable outcomes related to the following: (1) increased access to health promotion; (2) promotion of disease prevention activities; (3) improvement of existing research data; and (4) fostering of advocacy in policy appropriate to meet Healthy People 2010 objectives.

Eligibility and Documentation Requirements: Any federally recognized Indian Tribe, Indian Tribal organization or nonprofit organization serving primarily AI/AN is eligible to apply for a demonstration grant from the IHS under this announcement.

Documentation of Support:

(a) Tribal resolutions.

(1) A resolution of the Indian Tribe or Indian Tribal organization supporting this specific program must accompany the application submission.

(2) Applications proposing services that will benefit more than one Indian Tribe must include resolutions from all Tribes to be served.

(3) Applications by Tribal organizations will not require resolution(s) if the current Tribal resolution(s) under which they operate encompass the proposed grant activities. A statement of proof or a copy of the current operational resolution must accompany the application.

(4) If a required resolution or a statement is not submitted, the application will be considered incomplete and will be returned without consideration.

(b) Nonprofit organizations must submit copies of their 501(c)(3) Certificate.

(c) Letters of cooperation/collaboration/assistance.

(1) Letters included in the application should be specific to this program.

(2) If other related human services programs are to be involved in this program, letters confirming the nature and extent of their cooperation/collaboration/assistance must be submitted.

Programmatic Activities: A grant awarded under this announcement shall establish a demonstration program for improving and enhancing the health services for AI/AN women. The program shall expand on existing services or programs, or build new capacity through activities that integrate or promote collaboration among existing services. The four identified focus areas are health promotion, disease prevention, data/research improvement and advocacy of policy appropriate to meet Healthy People 2010 objectives.

Specific health priorities within these focus areas are cardiovascular disease; cervical, ovarian and breast cancer; gestational diabetes; breastfeeding; alcohol; smoking; lupus erythematosus; osteoporosis; unintentional injuries; domestic violence; and mental health.

Program objectives should be measurable by objective criteria and should focus on one or more of the following:

(a) Establishing or expanding health risk-reduction programs.

(b) Increasing access to and acceptance of existing preventative/primary health service.

(c) Increasing the awareness of and need for research/data improvements relative to AI/AN women's health status.

(d) Promoting networking and collaboration among existing providers of health services for AI/AN women.

The submission of creative and innovative ideas to enhance service coordination is encouraged.

Fund Availability and Period of Support: In FY 2003 it is anticipated that approximately $700,000 will be available to support seven projects at approximately $100,000 each (including direct and indirect costs). The programs may be funded in annual budget periods for up to five years depending on the defined scope of work. Funding levels beyond the first year will be based upon the availability of appropriations in future years, the continuing need by the IHS for the programs, and satisfactory program performance. The anticipated start date for year one is January 13, 2003.

The Indian Women's Health Demonstration Grant Application Kit: An IHS Grant Application Kit, including form PHS 5161-1 (Rev. 7/00), may be obtained from the Grant Management Branch, Division of Acquisition and Grants Management, 801 Thompson Avenue, Suite 120, Rockville, MD 20852, (301) 443-5204.

Factors for Consideration in Preparing the Application:

(a) Following the outline provided in the announcement will assist in preparing the application and help the reviewers locate required information.

(b) Projects should demonstrate plans to coordinate with other agencies and organizations inside and outside the community that serves the targeted population.

(c) Indian cultural aspects may be considered in program design.

Grant Application Requirements: All applications must be single-spaced, typewritten, and with consecutively numbered pages on only one side of standard size 8½ × 11 paper that can be photocopied. The typeface should be black and at least 12 characters per inch in size. The border margins should be one inch. The application narrative must not exceed 10 typed pages, except that an additional page may be used for each additional year of funding requested.

Excluded from the 10 page limit are the abstract, tribal resolution(s), 501(c)(3) nonprofit certificates, letters of documentation or support, standard forms, table of contents, and the appendix.

All applications must include the following information in the order presented here:

(a) Tribal resolution(s), or 501(c)(3) certificate, and Letters of documentation or support.

(b) Standard form 424, Application for federal assistance.

(c) Standard Form 424A, Budget Information—Non-Construction Programs (pages 1 and 2).

(d) Standard form 424B, assurance—Non-construction programs (front and back).

(e) Checklist (pages 25-26). Note: each standard form and checklist are contained in the PHS Grant Application, form PHS 5161-1 (Rev. 7/00).

(f) A project abstract (may not exceed 1 typewritten page) should present a summary view of “who-what-when-where-how-cost” to determine acceptability for review.

(g) A table of contents corresponding to the numbered pages in the text.

(h) Project narrative (10 pages).

(1) Introduction and need for assistance.

(2) Project objective(s), approach, and results and benefits.

(3) Project evaluation.

(4) Organizational capabilities and qualifications.

(5) Budget.

(i) Appendix to include:

(1) Resumes of key staff.

(2) Position descriptions for key staff.

(3) Organizational chart.

(4) Documentation of current certified financial management systems.

(5) Copy of current negotiated indirect cost-rate agreement.

(6) Map of area to benefit from project; and

(7) Application receipt card, IHS-815-1A (Rev. 4/97).

Project Narrative: The project narrative section of the application must include the following:

(a) Justification for need for assistance;

(b) Work plan, program objectives, approach, expected results and evaluation process;

(c) Adequacy of management controls; and

(d) Key personnel.

The work-plan section should be project-specific. These instructions for the preparation of the narrative are to be used in lieu of the instructions on page 21-23 of the PHS 5161-1. The narrative section should be written in a manner that is clear to outside reviewers unfamiliar with prior related activities of the applicant. It should be well organized, succinct, and contain all information necessary for reviewers to understand the project fully. The narrative may not exceed ten single-spaced pages in length, excluding attachments, budget, and Tribal resolutions/non-profit 501(c)(3) certificates/letters of documentation or support.

(Note: Pages must be numbered.)

(a) Need for Assistance.

(1) Describe and define the target population at the program location (e.g., identify information sources).

(2) Describe in detail the needs of the target population and what efforts have been made in the past to meet these needs, if any.

(b) Work Plan.

(1) Program Objectives:

(i) State concisely the objectives of the project.

(ii) Describe briefly what the program intends to accomplish.

(iii) Describe how accomplishment of the objectives will be evaluated or measured.

(2) Approach:

(i) Describe the tasks and resources needed to implement and complete this program.

(ii) Provide a task time line (milestones) breakdown or chart.

(3) Expected Results (outcomes).

(4) Program Evaluation:

(i) Describe methods for evaluating program activities, success in achieving objectives, acceptance in the targeted population(s), and workload accomplishments.

(ii) Identify who will conduct the evaluation of the projected outcomes and when the evaluation is to be completed.

(iii) Identify the cost of the evaluation (whether internal or external).

(5) Program Continuance: Discuss how the program's services will be continued after the grant expires.

(6) Experience Sharing: Indicate willingness to share the program experience with IHS Areas, urban programs, Tribes and Tribal organizations.

(c) Adequacy of Management Controls:

(1) Describe where the program will be housed, i.e., facilities and equipment available.

(2) Describe the management controls of the grantee over the directions and acceptability of work to be performed. Discuss personnel and financial systems in use and changes planned for this grant.

(3) Demonstrate that the organization has adequate systems and expertise to manage Federal funds. Also, include a letter from the accounting firm describing results of the most recent organization-wide audit.

(d) Key Personnel:

(1) Provide a biographical sketch (qualifications) and position descriptions for the program director and other key personnel as described on page 22 of the PHS 5161-1. Identify existing personnel and new program staff to be hired.

(2) Provide an organizational chart and indicate how the project will operate within the organization. Describe how this program will interface with other existing available resources.

(3) List the qualifications and experience of consultants or contractors where applicable. Identify who will determine if the work of a contractor is acceptable.

(e) Budget:

(1) Provide an itemized estimate of costs and justification for the proposed program by line item on Form SF 424A of the PHS 5161-1 Application Kit.

(2) Submit a narrative justification for all costs. Clearly specify needs by listing individual items and quantities necessary.

(3) Indicate any special start-up costs.

(4) Multi-Year Projects—Projects requiring two, three, four or five years of funding, include a brief program narrative and budget for each additional year of funding requested. The applicant may use one additional page to describe the developmental plans for each additional year of the project.

(5) Grant funding may not be used to supplant existing public and private resources.

(f) Assurances:

The application shall contain an assurance to the Secretary that the applicant will comply with program regulations, 42 CFR 36, subpart H.

Review Process: Applications meeting eligibility requirements that are complete, responsive, and conform to this program announcement will be reviewed for merit by reviewers appointed by the IHS. The review will be conducted in accordance with PHS review procedures. The review process ensures selection of quality projects in a national competition for limited funding. Applications will be evaluated and rated on the basis of the evaluation criteria listed below. These criteria are used to evaluate the quality of a proposed project, to assign a numerical score to each application, and to determine the likelihood of its success. Applications scoring below 60 points will not be considered for funding.

Evaluation Criteria: Applications will be evaluated against the following criteria and weights:

Weight | Criterion | Description
15 | 1 | Need—The demonstration of identified problems and risks in the target population.
50 | 2 | Work Plan—The soundness and effectiveness of the applicant's plan for conducting the program, with special emphasis on the objectives and methodology portion of the application.
15 | 3 | Adequacy of Management Controls—The apparent capability of the applicant to successfully conduct the program including both technical and business aspects. The soundness of the applicant's budget in relation to the program work plan and for assuring effective utilization of grant funds. Adequacy of facilities and equipment available within the organization or proposed to be purchased under the program.
10 | 4 | Key Personnel—Qualifications and adequacy of the staff.
10 | 5 | Budget—Clarity and accuracy of program costs, and cost justification for the entire grant period.
100 |  | Total Weight.

Reporting Requirements:

(1) Progress Report—Program progress reports will be required semiannually. These reports will include a brief comparison of actual accomplishments to the goals established for the period, reasons for slippage, if applicable, and other pertinent information as required. A final report is due 90 days after expiration of the project/budget period.

(2) Financial Status Report—A semiannual financial status report will be submitted 30 days after the end of the half-year. Final financial status reports are due 90 days after expiration of the project/budget period. Standard form 269 (long form) will be used for financial reporting.

Grant Administration Requirements: Grants are administered in accordance with the following documents:

(1) 45 CFR part 92, the HHS, Uniform Administrative Requirements for Grants and Cooperative Agreements to State and Local Governments, or 45 CFR part 74, Uniform Administrative Requirements for Awards and Subawards to Institutions of Higher Education, Hospitals, Other Nonprofit Organizations, and Commercial Organizations; and Certain Grants and Agreements with States, Local Governments and Indian Tribal Governments.

(2) PHS Grants Policy Statement.

(3) Appropriate Cost Principles: OMB Circular A-87, State and Local Governments, or OMB Circular A-122, Nonprofit Organizations.

Results of the Review: Successful applicants will be notified through the official Notice of Grant Award (NOGA) document. The NOGA will state the amount of Federal funds awarded, the purpose of the grant, the terms and conditions of the grant award, the effective date of the award, the project period, and the budget period.

Dated: October 24, 2002.
Charles W. Grim,
Assistant Surgeon General, Interim Director, Indian Health Service.

[FR Doc. 02-27679 Filed 10-30-02; 8:45 am]

BILLING CODE 4160-16-M